DEPARTMENT OF TRANSPORTATION

Federal Aviation Administration

[Policy Statement No. ANM-111-05-004]

Lightning Direct Effects Compliance

AGENCY: Federal Aviation Administration (FAA), DOT.

ACTION: Notice of final policy.

SUMMARY: The Federal Aviation Administration (FAA) announces the availability of final policy on Lightning Direct Effects Compliance.

DATES: The final policy was issued by the Transport Airplane Directorate on April 4, 2006.

FOR FURTHER INFORMATION CONTACT: Gregg Dunn, FAA, Airplane and Flight Crew Interface Branch, ANM-111, Transport Airplane Directorate, Aircraft Certification Service, 1601 Lind Avenue, SW., Renton, Washington 98055-4056; telephone (425) 227-2799; facsimile (425) 227-1320.

SUPPLEMENTARY INFORMATION:

Discussion of Comments

A notice of proposed policy was published in the Federal Register on January 10, 2006 (71 FR 1582). One (1) commenter responded to the request for comments, and that commenter agreed with the proposed policy.

Background

The final policy recognizes SAE International Aerospace Recommended Practice 5577, Aircraft Lightning Direct Effects Certification, as an acceptable method of compliance to the lightning direct effects requirements of § 25.581. That document is a recognized reference for the certification of part 25 transport category airplane Lightning Direct Effects requirements.

The final policy is available on the Internet at the following address: http://www.airweb.faa.gov/rgl. If you do not have access to the Internet, you can obtain a copy of the policy by contacting the person listed under FOR FURTHER INFORMATION CONTACT.

Issued in Renton, Washington on April 4, 2006.
Ali Bahrami,
Manager, Transport Airplane Directorate, Aircraft Certification Service.

[FR Doc. 06-3557 Filed 4-12-06; 8:45 am]

BILLING CODE 4910-13-M